ENVIRONMENTAL PROTECTION AGENCY

[ER-FRL-6611-9]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 260-5076.

An explanation of the ratings assigned to draft environmental impact statements (EISs) was published in FR dated April 14, 2000 (65 FR 20157).

Draft EISs

ERP No. D-AFS-F65027-MN Rating LO, Little East Creek Fuel Reduction Project, Plan to Grant Access Across Federal Land to Non-Federal Landowners, Implementation, LaCroix Ranger District, Superior National Forest, Saint Louis County, MN.

Summary: EPA has no objections to the project.

ERP No. D-AFS-K65228-CA Rating EC2, Airport Forest Health Project, Forest Health Improvements through Reduction of Fuel Loads and Fire Hazards and Wildlife Habitat Improvements Implementation, Pacific Ranger District, El Dorado National Forest, El Dorado and Placer Counties, CA.

Summary: EPA expressed concerns regarding purpose and need, the range of alternatives analyzed, and lack of appropriate mitigation for 2.2 miles of new road construction. EPA also recommended consideration of land tenure adjustments to block ownership, and disclosure of potential conflicts with standards and guidelines being developed as part of the Sierra Nevada Forest Plan Amendment process.

ERP No. D-AFS-L65363-OR Rating EC2, Anthony Lakes Mountain Resort Master Development Plan, Upgrading and Additional Development, Approval, Baker Ranger District, Wallowa-Whitman National Forest, Grant, Union and Baker Counties, OR.

Summary: EPA expressed concerns with the potential impacts associated from the addition of snowmobile rentals to the Master Development Plan (MDP). The final EIS should disclose additional information regarding how the number of allowable rentals will be defined in both the MDP and the Special Use Permit.

ERP No. D-AFS-L65364-ID Rating EC2, South Fourth of July Ecosystem Restoration Project, Implementation, Salmon-Cobalt Ranger District, Salmon-Challis National Forest, Lemhi County, ID.

Summary: EPA expressed concerns about water quality, air quality and cumulative effects and requested additional information that would address our concerns.

ERP No. D-BOP-K80042-CA Rating EC2, Lompoc United States Penitentiary (UPS) Construction and Operation of a New High-Security Facility and Ancillary Structures on One of Three Sites located in the City of Lopmoc, Funding, Santa Barbara County, CA.

Summary: EPA expressed concerns regarding lack of information specific to the facility location and the prison industry component of the proposed project. EPA also recommended that all wetlands be avoided on the preferred project site.

ERP No. D-IBR-K39062-00 Rating EC2, Colorado River Interim Surplus Criteria, To Determine Water Surplus for use within the States of Arizona, California and Nevada (from 2001 through 2015), Colorado River Basin, AZ, CA and NV.

Summary: EPA expressed concerns with the minimal evaluation of indirect impacts from use and storage of surplus water and of mitigation measures for direct, indirect, and cumulative effects. The surplus determination should also include more specific requirements for efficient and beneficial use of the declared surplus.

Final EISs

ERP No. F-AFS-J65309-UT Trout Slope East Timber Project, Timber Harvest and Associated Activities, Implementation, Vernal Ranger District, Ashley National Forest, Uintah County, UT.

Summary: EPA's comments and concerns with the draft EIS were adequately addressed, therefore, EPA has no objections with the proposed action.

ERP No. F-AFS-L65348-ID Idaho Panhandle National Forests, Small Sales, Harvesting Dead and Damaged Timber, Coeur d'Alene River Range District, Kootenai and Shoshone Counties, ID.

Summary: EPA's previous concerns were addressed, therefore, EPA has no objection to the action as proposed.

ERP No. F-COE-E39049-FL Improving the Regulatory Process in Southwest Florida for the Review of Applications for the Fill of Wetlands (US Army COE Section 404 Permit), Lee and Collier Counties, FL.

Summary: EPA stated with some substantive changes, the proposed permit review process (assessing the direct, indirect/induced, and cumulative impact(s) on wetland and related systems) can provide effective wetland regulation in southwest Florida.

ERP No. F-FTA-C53004-NY Mid-Harlem Line Third Track Project, Construct a New 2.5 mile Third Track between Fleetwood and Crestwood Stations, Funding, Westchester County, NY.

Summary: EPA continues to lack objections to the proposed action since no significant new issues were raised since the draft EIS.

ERP No. F-USN-C11016-NY Brooklyn Naval Station Disposal and Reuse, Implementation, King County, NY.

Summary: Previous concerns identified at the draft EIS were satisfactorily addressed in the final EIS, therefore EPA has no objection to the action as proposed.

ERP No. FS-NPS-E61066-FL Big Cypress National Preserve, General Management Plan, Implementation, New Information on the Special Alternative for the Off-Road Vehicle Management Plan, Collier, Dade and Monroe Counties, FL.

Summary: EPA expressed continuing concerns regarding surface water quality.

Dated: October 17, 2000.
Joseph C. Montgomery,
Director, NEPA Compliance Division, Office of Federal Activities.

[FR Doc. 00-27063 Filed 10-19-00; 8:45 am]

BILLING CODE 6560-50-P